DEPARTMENT OF ENERGY

Federal Energy Regulatory Commission

18 CFR Parts 47 and 159

[Docket No. RM06-3-000]

Prohibition of Energy Market Manipulation

AGENCY: Federal Energy Regulatory Commission.

ACTION: Notice of proposed rulemaking; correction.

SUMMARY: The Federal Energy Regulatory Commission published in the Federal Register of October 27, 2005, a document proposing to add a part 47 and part 159 to Title 18 of the CFR. Two clauses in the proposed regulatory language for parts 47 and 159 were inadvertently incorporated into subparagraph text, but were intended to start a new line in the text since they are to modify all three subparagraphs. As such formatting is inconsistent with Federal Register requirements, these modifying clauses will be moved to the beginning of the paragraph.

FOR FURTHER INFORMATION CONTACT: Frank Karabetsos, Office of the General Counsel, Federal Energy Regulatory Commission, 888 First Street, NE., Washington, DC 20426. (202) 502-88133.

SUPPLEMENTARY INFORMATION: The Federal Energy Regulatory Commission published in the Federal Register of October 27, 2005 (70 FR 61930), a document adding a part 47 under subchapter B (Regulations under the Federal Power Act) and a part 159 (Regulations under the Natural Gas Act) to Title 18 of the CFR. The proposed regulatory text for the two parts failed to set out certain sentences as modifying clauses. This document corrects that error.

Correction

In proposed rule FR Doc. 05-21423, beginning on page 61930 in the issue of October 27, 2005, make the following corrections:

§ 47.1 [Corrected]

1. On page 61933, in column 2, correct § 47.1(a) to read as follows:

§ 47.1 Prohibition of energy market manipulation.

(a) It shall be unlawful for any entity, directly or indirectly, in connection with the purchase or sale of electric energy or the purchase or sale of transmission services subject to the jurisdiction of the Commission,

(1) To use or employ any device, scheme, or artifice to defraud,

(2) To make any untrue statement of a material fact or to omit to state a material fact necessary in order to make the statements made, in the light of the circumstances under which they were made, not misleading, or

(3) To engage in any act, practice, or course of business that operates or would operate as a fraud or deceit upon any person.

* * * * *

§ 159.1 [Corrected]

2. On page 61933, in column 3, correct § 159.1(a) to read as follows:

§ 159.1 Prohibition of energy market manipulation.

(a) It shall be unlawful for any entity, directly or indirectly, in connection with the purchase or sale of natural gas or the purchase or sale of transportation services subject to the jurisdiction of the Commission,

(1) To use or employ any device, scheme, or artifice to defraud,

(2) To make any untrue statement of a material fact or to omit to state a material fact necessary in order to make the statements made, in the light of the circumstances under which they were made, not misleading, or

(3) To engage in any act, practice, or course of business that operates or would operate as a fraud or deceit upon any person.

* * * * *

Dated: November 10, 2005.
Magalie R. Salas,
Secretary.

[FR Doc. 05-22755 Filed 11-15-05; 8:45 am]

BILLING CODE 6717-01-P